DEPARTMENT OF STATE

[Public Notice 5201]

Department of State Performance Review Board Members (at Large Board)

In accordance with section 4314(c)(4) of the Civil Service Reform Act of 1978 (Pub. L. 95-454), the Executive Resources Board of the Department of State has appointed the following individuals to the Department of State Performance Review Board (At-Large):

Margaret A. Philbin, Executive Director, Bureau of Administration, Department of State;

William E. Todd, Deputy Assistant Secretary, Bureau of International Narcotics and Law Enforcement Affairs, Department of State;

Mark A. Clodfelter, Assistant Legal Adviser, for International Claims and Investment Disputes, Office of Legal Adviser, Department of State;

Barry L. Wells, Deputy Director, Foreign Service Institute, Department of State;

Gretchen Welch, Director, Office of Policy, Planning & Resources, Office of the Under Secretary for Public Diplomacy and Public Affairs, Department of State; (Outside Member).

Dated: September 27, 2005.
W. Robert Pearson,
Director General of the Foreign Service and Director of Human Resources, Department of State.

[FR Doc. 05-20230 Filed 10-6-05; 8:45 am]

BILLING CODE 4710-15-P